DEPARTMENT OF ENERGY

Notice of Availability of the Draft Environmental Assessment for Waste Disposition Activities at the Paducah Gaseous Diffusion Plant

AGENCY: Department of Energy

ACTION: Notice of availability.

SUMMARY: The Department of Energy (DOE), announces the availability of the Draft Environmental Assessment (EA) for Waste Disposition Activities at the Paducah Site (DOE/EA-1339) for public review and comment. The Draft EA has been prepared in accordance with the requirements of the National Environmental Policy Act of 1969 as amended (NEPA) (42 U.S.C. 4321 et seq.); Council on Environmental Quality regulations implementing NEPA, 40 CFR parts 1500-1508; and DOE NEPA Implementing Procedures, 10 CFR part 1021.

The Draft EA evaluates the potential environmental impacts associated with continued waste management operations at the Paducah Site, as well as transportation of the waste to treatment and disposal facilities at various locations throughout the United States. The type of wastes analyzed include polychlorinated biphenyl (PCB) waste, low-level (radioactive) waste (LLW), mixed low-level waste (MLLW), and transuranic (TRU) waste. The Draft EA also evaluates the potential environmental impacts associated with the no action alternative.

The public is invited to comment on the Draft EA during the 45-day public comment period which starts on the date of this notice. All comments received will be considered in preparation of the final EA. Late comments will be considered to the extent practicable.

ADDRESSES: Comments on the Draft EA may be submitted by mail: U.S. Department of Energy, Oak Ridge Operations Office, Attn: Mr. David Allen, PO Box 2001, Oak Ridge, TN 37830, by fax (1-865-576-0746), electronically (NEPA@oro.doe.gov), or by phone (1-800-382-6938).

Copies of the Draft EA may also be obtained by contacting Mr. Gary Bodenstein, U.S. Department of Energy, Paducah Site Office, PO Box 1410, Paducah, KY 42001, by fax (1-270-441-6801), or electronically (BodensteinGW@oro.doe.gov). The Draft EA is available for review at the U.S. Department of Energy Environmental Information Center, Barkley Centre, 115 Memorial Drive, in Paducah Kentucky. The Draft EA is also available for review at the U.S. Department of Energy Public Reading Room at 230 Warehouse Road, Oak Ridge, TN 37830.

For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

DATES: The review period for the Draft EA ends April 25, 2002. Comments postmarked after that date will be considered to the extent practicable. One public meeting to discuss issues and receive oral comments on the Draft EA will be held on April 9, 2002, at the DOE Environmental Information Center, Barkley Centre, 115 Memorial Drive, in Paducah, Kentucky. The meeting will be held from 6-8 p.m. CST. The public meeting will provide the public with an opportunity to present comments, ask questions, and discuss concerns with DOE officials regarding the Draft EA. Specific information regarding the public meeting can be obtained by calling 1-270-441-5204, writing to the address above, or electronically.

SUPPLEMENTARY INFORMATION: The Draft EA evaluates DOE's proposed disposition activities for legacy and future-generated PCB wastes, LLW, MLLW, and TRU waste from the Paducah Gaseous Diffusion Plant at the Paducah Site in Paducah, Kentucky. The proposed action includes: Waste storage at the Paducah site; on-site treatment of a small portion of the waste volume covered in the Draft EA, off-site treatment at treatment locations throughout the United States; waste transport to treatment and disposal locations by truck, rail, or inter-modal shipment; and waste disposal at various locations throughout the United States. Off-site treatment and disposal locations for waste disposition include facilities in Nevada, Utah, Texas, Washington, Idaho, New Mexico, and Tennessee. Supporting activities are also evaluated in the Draft EA. Examples of these activities include, characterization activities of waste currently in storage, on-site waste movement, sorting, packaging, inspecting, labeling. The Draft EA also evaluates the no action alternative. Under this alternative, DOE would not perform disposition activities except for those needed for standard waste management and maintenance. No disposal of the existing and projected quantities of waste would occur. DOE would continue to store such waste. Ongoing non-CERCLA waste management operations would continue.

Issued in Oak Ridge, Tennessee on February 28, 2002.
David R. Allen,
Oak Ridge Operations NEPA Compliance Officer.

[FR Doc. 02-5751 Filed 3-8-02; 8:45 am]

BILLING CODE 6450-01-P